DEPARTMENT OF THE INTERIOR

Bureau of Land Management

[WY-040-1430-ES; WYW167264]

Recreation and Public Purposes (R&PP) Act Classification, Sweetwater County, WY

AGENCY: Bureau of Land Management, Department of the Interior.

ACTION: Notice of realty action.

SUMMARY: The Bureau of Land Management (BLM) has examined and found suitable for classification for lease or conveyance to the Rock Springs School District Number One under the provisions of the Recreation and Public Purposes Act, as amended, 124.45 acres of public lands in Sweetwater County, Wyoming. The School District proposes to use the land for a public school complex. In association with the proposed schools, playgrounds, parking lots, and athletic fields are proposed.

ADDRESSES: Bureau of Land Management, Rock Springs Field Office, 280 Highway 191 North, Rock Springs, Wyoming 82901.

DATES: Interested persons may submit written comments to the BLM at the address stated above. Comments must be received by no later than October 4, 2007.

FOR FURTHER INFORMATION CONTACT: Eddie Arreola, Realty Specialist, BLM at the address stated above or at 307-352-0243.

SUPPLEMENTARY INFORMATION: The following described land has been examined and found suitable for classification for lease or conveyance for a public school complex under the provisions of the Recreation and Public Purposes (R&PP) Act, as amended (43 U.S.C. 869 et seq.), and is hereby classified accordingly:

Sixth Principal Meridian

T. 19 N., R. 105 W.,

Sec. 28, lots 3, 4, and 5.

The area described contains 124.45 acres in Sweetwater County.

In accordance with the R&PP Act, the Rock Springs School District Number One has filed an R&PP application and Plan of Development in which it proposes to use the above described land for a public school complex. The land is not needed for Federal purposes. Lease or conveyance pursuant to the R&PP Act is consistent with the BLM Green River Resource Area Management Plan, dated August 8, 1997, which identifies the land as suitable for disposal for public school purposes. The proposal is in the public interest.

The lease or conveyance, when issued, will be subject to the following terms, conditions, and reservations.

1. Provisions of the R&PP Act and to all applicable regulations, policy and guidance, including but not limited to the regulations stated in 43 CFR 2740, of the Secretary of the Interior.

2. Reservation of a right-of-way to the United States for ditches and canals pursuant to the Act of August 30, 1890, 43 U.S.C. 945.

3. All minerals shall be reserved to the United States, together with the right to prospect for, mine and remove the minerals under applicable laws and regulations established by the Secretary of the Interior.

4. Provided, that the land conveyed shall revert to the United States upon finding, and after notice and opportunity for a hearing, that the patentee has not substantially developed the land in accordance with the approved plan of development on or before the day, 5 years after the date of conveyance.

5. All valid existing rights of record, including those documented on the official public land records at the time of lease or patent issuance.

6. Provided, that if the patentee or its successor attempts to transfer title to or control over the land to another, or the land is devoted to a use other than that for which the land was conveyed, without the consent of the Secretary of the Interior or his delegate, or prohibits or restricts, directly or indirectly, or permits its agents, employees, contractors, or subcontractors, including without limitation, lessees, sublessees and permittees, to prohibit or restrict, directly or indirectly, the use of any part of the patented land or any of the facilities whereon by any person because of such person's race, creed, sex, color, or national origin, title shall revert to the United States.

Detailed information concerning the proposed action, including but not limited to documentation relating to compliance with applicable environmental and cultural resource laws, is available for review at the BLM, at the address stated above, telephone: 307-352-0243.

On August 20, 2007, the above described lands will be segregated from all other forms of appropriation under the public land laws, including the general mining laws, except for lease or conveyance under the R&PP Act and leasing under the mineral leasing laws.

Interested parties may submit written comments regarding the proposed lease or conveyance or classification of the land for a public school complex to the Field Manager, BLM Rock Springs Field Office, at the address stated above. Comments must be received by October 4, 2007.

Classification Comments: Interested parties may submit comments involving the suitability of the land for a public school complex. Comments on the classification are restricted to whether the land is physically suited for the proposal, whether the use will maximize the future use or uses of the land, whether the use is consistent with local planning and zoning, or if the use is consistent with State and Federal programs.

Application Comments: Interested parties may submit comments regarding the specific use proposed in the application and Plan of Development, whether the BLM followed proper administrative procedures in reaching the decision; or any other factor not directly related to the suitability of the land for a public school complex.

Confidentiality of Comments: Before including your address, phone number, e-mail address, or other personal identifying information in your comments, you should be aware that your entire comment—including your personal identifying information—may be made publicly available at any time. While you can ask us in your comments to withhold your personal identifying information from public review, we cannot guarantee that we will be able to do so.

Any adverse comments will be reviewed by the BLM State Director, who may sustain, vacate, or modify this realty action. In the absence of any adverse comments, the classification will become effective October 19, 2007.

(Authority: 43 CFR part 2741)

Lance Porter,
Acting Field Manager.

[FR Doc. E7-16345 Filed 8-17-07; 8:45 am]

BILLING CODE 4310-22-P